DEPARTMENT OF ENERGY

Federal Energy Regulatory Commission

[Docket No. RM05-4-000; RM05-4-001]

Interconnection for Wind Energy; Notice Extending Compliance Date

December 22, 2005.

On December 12, 2005, the Commission issued its order on rehearing and clarification in these proceedings. Interconnection for Wind Energy, Order No. 661-A, 70 FR 75005 (Dec. 19, 2005), 113 FERC ¶ 61,254 (2005); see also Interconnection for Wind Energy, Order No. 661, 70 FR 34993 (June 16, 2005), FERC Stats. & Regs. ¶ 31,186 (2005) (Final Rule). In Order No. 661-A, the Commission maintained a previously established date of December 30, 2005 as the date by which public utilities that own, control, or operate transmission facilities in interstate commerce are to adopt the tariff sheets in the Final Rule as amendments to the Large Generator Interconnection Procedures and Large Generator Interconnection Agreements in their Open Access Transmission Tariffs. Southern California Edison Company, California Independent System Operator Corporation, and San Diego Gas and Electric Company have each submitted motions asking that the December 30, 2005, compliance date be extended to January 18, 2006, the effective date of Order No. 661-A.

By this notice, the Commission hereby extends to January 18, 2006, the date by which public utilities that own, control, or operate transmission facilities in interstate commerce are to file the tariff sheets required by both the Final Rule and Order No. 661-A as amendments to the Large Generator Interconnection Procedures and Large Generator Interconnection Agreements in their Open Access Transmission Tariffs.

Magalie R. Salas,
Secretary.

[FR Doc. E5-8170 Filed 12-30-05; 8:45 am]

BILLING CODE 6717-01-P